CONSUMER PRODUCT SAFETY COMMISSION

Sunshine Act Meeting Notice

TIME AND PLACE: Thursday, April 27, 2017, 9:30 a.m.-11:30 a.m.

PLACE: Hearing Room 420, Bethesda Towers, 4330 East-West Highway, Bethesda, Maryland.

STATUS: Commission Meeting—Open to the Public.

MATTER TO BE CONSIDERED:

Decisional Matter: Safety Standard Addressing Blade-Contact Injuries on Table Saws—Notice of Proposed Rulemaking

A live webcast of the Meeting can be viewed at www.cpsc.gov/live.

CONTACT PERSON FOR MORE INFORMATION: Todd A. Stevenson, Office of the Secretary, U.S. Consumer Product Safety Commission, 4330 East-West Highway, Bethesda, MD 20814, (301) 504-7923.

Dated: April 19, 2017.
Todd A. Stevenson,
Secretary.

[FR Doc. 2017-08191 Filed 4-19-17; 11:15 am]

BILLING CODE 6355-01-P